DEPARTMENT OF COMMERCE

Census Bureau

Proposed Information Collection; Comment Request; Household Pulse Survey

AGENCY: U.S. Census Bureau, Commerce.

ACTION: Notice.

SUMMARY: The Department of Commerce, as part of its continuing effort to reduce paperwork and respondent burden, invites the general public and other Federal agencies to take this opportunity to comment on a proposed new information collection of the Household Pulse Survey During COVID-19 Epidemic, as required by the Paperwork Reduction Act of 1995.

DATES: To ensure consideration, written comments must be submitted on or before July 20, 2020.

ADDRESSES: Direct all written comments to Cassandra A. Logan, Survey Director, Household Pulse Survey, U.S. Census Bureau, 4600 Silver Hill Road, ADDP, HQ-7H157, Washington, DC 20233 (or via the internet at PRAcomments@doc.gov). You may also submit comments, identified by Docket Number USBC-2020-0013, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Cassandra A. Logan, U.S. Census Bureau, ADDP HQ-7H157, Washington, DC 20233-8400, (301) 763-1087 (or via the internet at Cassandra.logan@census.gov).

SUPPLEMENTARY INFORMATION:

I. Abstract

The Census Bureau has developed the Household Pulse Survey as an experimental endeavor in cooperation with five other federal agencies. Conducting the Household Pulse Survey during the COVID-19 pandemic will allow the federal statistical system to demonstrate proof of concept with respect to its ability to produce near real-time data in a time of urgent and acute need. Changes in these measures over time will provide insight into individuals' experiences on social and economic dimensions during the period of the Covid-19 pandemic. This survey, conducted under the auspices of the Census Bureau's Experimental Data Series (https://www.census.gov/data/experimental-data-products.html), is designed to supplement the federal statistical system's traditional benchmark data products with a new data source that provides relevant and timely information based on a high quality sample frame, data integration, and cooperative expertise.

Given the urgency of circumstances associated with the pandemic, the Census Bureau sought emergency clearance from the Office of Management and Budget (OMB), which OMB granted on April 19, 2020 (OMB No. 0607-1013). The documentation submitted to OMB for Information Collection Review is available at https://www.reginfo.gov/public/do/PRAViewDocument?ref_nbr=202004-0607-005.

Question domains contributed by the Census Bureau (Census), Economic Research Service (ERS), Bureau of Labor Statistics (BLS), National Center for Health Statistics (NCHS), National Center for Education Statistics (NCES), and the Department of Housing (HUD) seek to measure employment status, consumer spending, food security, housing, health, and education disruptions. Many of the questions that will be asked on this survey have been fielded on other surveys in the past. However, some of the questions are new, designed to explore potential impacts associated with the COVID-19 pandemic response.

II. Method of Collection

The Census Bureau will conduct this information collection online using Qualtrics as the data collection platform. Qualtrics currently is used at the Census Bureau for research and development surveys and provides the necessary agility to deploy the Household Pulse Survey quickly and securely. It operates in the Gov Cloud, is FedRAMP authorized at the moderate level, and has an Authority to Operate from the Census Bureau to collect personally identifiable and Title-protected data.

The Census Bureau will sample approximately 2,159,000 housing units, with an additional approximately 1,100,000 housing units each subsequent week of data collection. The survey was initiated starting April 23, 2020, and is planned to take place over the course of 12 weeks. Households will be contacted via email and/or SMS text asked to complete approximately 50 questions focused on employment, spending, food security, housing, health and educational disruption. The survey was estimated to take 20 minutes.

Weekly survey estimates will be produced by weighting the results to the estimate of the occupied number of housing units from the American Community Survey at the geographic levels of the nation, state, and metropolitan area. The Census Bureau expects to refine its weighting processes over time to make better use of available information and to reduce nonresponse bias in the estimates.

III. Data

OMB Control Number: 0607-1013.

Form Number(s): There are no forms. All data collection is web-based.

Type of Review: Regular submission.

Affected Public: People and Households.

Estimated Number of Respondents: The total number of respondents is estimated at 108,000 per week for 12 weeks for a total of estimated 1,296,000 respondents.

Estimated Time per Response: 20 minutes.

Estimated Total Annual Burden Hours: 427,794.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13, United States Code, Sections 8(b), 182 and 196.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-10650 Filed 5-18-20; 8:45 am]

BILLING CODE 3510-07-P